DEPARTMENT OF TRANSPORTATION

Research and Innovative Technology Administration

[RITA-2007-28836]

Nationwide Differential Global Positioning System (NDGPS) Program

AGENCY: Research and Innovative Technology Administration, DOT.

ACTION: Notice; request for public comments.

SUMMARY: The Research and Innovative Technology Administration (RITA), on behalf of the U.S. Department of Transportation (DOT), is assessing the current user needs and systems requirements of the inland (terrestrial) component of NDGPS. This assessment is in preparation for making a recommendation to the National Space-Based Positioning, Navigation and Timing (PNT) Executive Committee (http://www.pnt.gov) on the need to continue to operate the inland component of the NDGPS system, and to make a decision on funding the NDGPS. The assessment may recommend other funding sources for future maintenance or enhancement of NDGPS, or shared sponsorship with other Federal and non-Federal agencies and entities, including the private sector. If no transportation requirements or other federal user requirements are identified as a result of the needs assessment, and if there are no other Federal or other funding sources willing to sponsor or partner in sponsoring NDGPS, DOT would develop a decommissioning plan for NDGPS.

DATES: Comments and related material must reach the Docket Management Facility on or before October 1, 2007. Late filed comments will be considered to the maximum extent practicable.

ADDRESSES: You may submit comments identified by RITA docket number RITA-2007-28836 to the Docket Management Facility at the U.S. Department of Transportation. To avoid duplication, please use only one of the following methods:

(1) Web site: http://dms.dot.gov (electronic submission).

(2) Mail: U.S. Department of Transportation, Docket Operations, M-30, Room W12-140, 1200 New Jersey Avenue, SE., Washington, DC 20590.

(3) Fax: 202-493-2251.

(4) Delivery: Room W12-140 in the West Tower of the U.S. Department of Transportation Headquarters Building, 1200 New Jersey Avenue, SE., Washington, DC, between 9 a.m. and 5 p.m., Monday through Friday, except Federal holidays. The telephone number is 202-366-9329.

FOR FURTHER INFORMATION CONTACT: If you have questions on this notice, call Mr. Timothy A. Klein, Department of Transportation, Research and Innovative Technology Administration, 202-366-0075, or e-mail NDGPS@dot.gov.

If you have questions on viewing or submitting material to the docket, call Renée V. Wright, Program Manager, Docket Operations, 202-493-0402.

You may obtain a copy of this notice by calling RITA's Office of Governmental, International and Public Affairs, 202-366-9664, or read it online at http://dms.dot.gov.

SUPPLEMENTARY INFORMATION:

Background

In 1997, the Department of Transportation and Related Agencies Appropriations Act of 1998 (Pub. L. 105-66, section 346 (111 Stat. 1449)) authorized the implementation of the inland component of NDGPS. Federal agencies, states, and scientific organizations have been cooperating to complete the inland NDGPS component throughout the U.S. If completed as originally envisioned, NDGPS will provide coverage of the conterminous U.S., Hawaii, and Alaska, regardless of terrain, man-made obstructions, or other surface obstructions. This coverage is achieved by using a robust medium frequency broadcast optimized for surface applications. NDGPS currently meets all of the Maritime Differential GPS performance requirements.

The completed NDGPS system would provide an accurate, highly-reliable, dynamic, nationwide real-time differential GPS location and integrity function to users that could enable multiple surface transportation, other civil, commercial, scientific and homeland security applications. More information is available at: http://www.navcen.uscg.gov/ndgps/default.htm.

The Department of Transportation is evaluating the user needs and system requirements of the NDGPS system. DOT is examining whether it would be in the public interest to continue operations of the inland component of the NDGPS system, or to invest in completing and enhancing NDGPS by:

1. Completing the planned NDGPS Initial Operational Capability (IOC); or

2. Completing the planned NDGPS Full Operational Capability (FOC).

If further investment is not in the public interest and there are no other funding sources, DOT is evaluating whether to decommission the inland component of NDGPS.

DOT is also seeking information about potential NDGPS sponsor partnerships with other Federal, state and local agencies, universities, and the private sector.

Future operations and investment decision scenarios might include:

1. Sharing sponsorship (program operations, maintenance and funding responsibilities) across interested Federal, state and local agencies, which may lead to completing the planned NDGPS Initial Operating Capability (IOC) of providing users with coverage by at least one NDGPS site over the conterminous United States (CONUS), as defined in the 2005 Federal Radionavigation Plan (2005 FRP), available at: http://www.navcen.uscg.gov/pubs/frp2005/2005%20FRP%20WEB.pdf;

2. Sharing sponsorship (program operations, maintenance and funding responsibilities) across interested Federal, state and local agencies, which may lead to completing the planned NDGPS Full Operating Capability (FOC) of dual coverage over CONUS, as defined in the 2005 FRP;

3. Transferring system funding and/or operations to the private sector through a public-private partnership or similar mechanism; or,

4. If user requirements are not identified, decommissioning the inland component of NDGPS.

In all scenarios, the Coast Guard will continue to operate, maintain, and manage the Maritime Differential GPS system to meet maritime safety, navigation and security mission requirements.

Contributing factors to these decisions are:

1. Whether there are sufficient number of current and projected NDGPS transportation users, and/or other civil sector users (e.g., civil Federal, state and local agencies, commercial and scientific interests) to justify continued system operation, or build-out to FOC completion;

2. Whether there are sufficient safety, mobility, efficiency, economic, environmental, and other benefits to justify the costs of FOC completion and future operations;

3. Whether there are other GPS augmentation or PNT services currently available to meet NDGPS requirements; or if such services are in development, when nationwide real-time deployment is expected;

4. Whether the private sector has or is developing the capability to provide services equivalent to or better than NDGPS requirements, or whether the private sector has an interest in assuming funding and/or operations of the inland component of NDGPS;

5. Whether there are international considerations to the decision concerning the future of the inland component of NDGPS; and

6. Whether there are interoperability or radio frequency spectrum considerations to the decision concerning the future of the inland component of NDGPS.

Specific to the DOT decision on future NDGPS sponsorship by the Department, contributing factors include:

7. Whether there are any transportation operational requirements for the inland component of NDGPS;

8. Whether there are existing uses of NDGPS by Federal, state and local transportation agencies, other transportation authorities, or private transportation and logistics providers and shippers, and if these uses are critical to transportation safety, operations and efficiency;

9. Should there be existing uses, whether another PNT or GPS augmentation service could meet the user requirement; and the cost of switching to another system, should that system meet the user requirements; and

10. Whether there are transportation safety, mobility or efficiency applications currently in research, development, or early deployment which are dependent upon the NDGPS for successful application; whether another PNT or GPS augmentation service could meet the projected application(s); and the cost of switching to another system, should that system meet the projected requirement.

The Department of Transportation seeks public input on the various decisions currently under consideration, with an emphasis on NDGPS user requirements and sponsorship opportunities. The Department of Transportation also will solicit real-time navigation and positioning requirements from Federal civil agencies and quantify any mission impacts of conducting public business without the availability of NDGPS. For more information on NDGPS, you may visit: http://www.navcen.uscg.gov/ndgps/default.htm.

Request for Comments

All comments received will be posted, without change, to http://dms.dot.gov and will include any personal information you have provided. Please see DOT's “Privacy Act” paragraph below.

Submitting Comments: If you submit a comment, please include your name and address, identify the docket number for this notice (RITA-2007-28836) and give the reason for each comment. You may submit your comments by electronic means, mail, fax, or delivery to the Docket Management Facility at the address under ADDRESSES; but please submit your comments by only one means. If you submit comments by mail or delivery, submit them in an unbound format, on white paper no larger than 8½ by 11 inches, suitable for copying and electronic filing. If you submit comments by mail and would like confirmation they reached the Facility, please enclose a stamped, self-addressed postcard or envelope. We will consider all comments received during the comment period.

Viewing Comments and Documents: To view comments, go to http://dms.dot.gov at any time, click on “Simple Search,” enter the last five digits of the docket number for this notice (RITA-2007-28836), and click on “Search.” You may also visit the Docket Management Facility in Room W12-140 in the West Tower of the U.S. Department of Transportation Headquarters Building, 1200 New Jersey Avenue, SE., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Next Steps for this Project

At this time, the Department of Transportation seeks public input on the various options currently under consideration. The Department of Transportation also will inventory Federal civil agencies on any mission requirements that may require NDGPS, and identify mission impacts of conducting business without NDGPS. After considering all comments, the Department of Transportation will make a recommendation to the National Space-Based PNT Executive Committee (http://www.pnt.gov) on the need to continue to operate or to invest in completion or enhancement of the inland component of the NDGPS system, and on proposed sponsors and funding partners; and will inform the public of the agreed course of action with respect to future investment in NDGPS.

Issued in Washington, DC, on July 25, 2007.
Thomas O'Donoghue,
Chief Counsel, Research and Innovative Technology Administration.

[FR Doc. E7-14905 Filed 7-31-07; 8:45 am]

BILLING CODE 4910-HY-P